DEPARTMENT OF ENERGY

Federal Energy Regulatory Commission

[Docket No. EL07-79-000]

Midwestern Independent Transmission System Operator, Inc.; Notice of Institution of Proceeding and Refund Effective Date

July 24, 2007.

On July 19, 2007, the Commission issued an order that instituted a proceeding in the above-referenced docket, pursuant to Section 206 of the Federal Power Act (FPA) 16 U.S.C. 824e, concerning the justness and reasonableness of the “cost cap” in the Interconnection Agreement discussed in the July 19, 2007 Order. Midwestern Independent Transmission System Operator, Inc., 120 FERC ¶ 61,006 (2007).

The refund effective date in the above-docketed proceeding, established pursuant to section 206(b) of the FPA, will be the date of publication of this notice in the Federal Register.

Kimberly D. Bose,
Secretary.

[FR Doc. E7-14766 Filed 7-30-07; 8:45 am]

BILLING CODE 6717-01-P